DEPARTMENT OF THE INTERIOR

Bureau of Land Management

[LLWO600000.12X.L18200000.XH0000]

Proposed Information Collection; Federal Advisory Committee Background Information Nomination Form

AGENCY: Bureau of Land Management, Interior.

ACTION: 60-Day Notice and Request for Comments.

SUMMARY: In compliance with the Paperwork Reduction Act of 1995, the Bureau of Land Management (BLM) invites comments on a proposed collection of information from applicants for membership in advisory committees. After the close of the comment period, the BLM will submit the proposed information collection to the Office of Management and Budget (OMB) for review and approval.

DATES: Submit comments on the proposed information collection by February 27, 2012.

ADDRESSES: Comments may be submitted by mail, fax, or electronic mail.

Mail: U.S. Department of the Interior, Bureau of Land Management, 1849 C Street, NW., Room 2134LM, Attention: Jean Sonneman, Washington, DC 20240.

Fax: to Jean Sonneman at (202) 245-0050.

Electronic mail: Jean_Sonneman@blm.gov.

Please indicate “Attn: 1004-XXXX” regardless of the form of your comments.

FOR FURTHER INFORMATION CONTACT: Allison Sandoval, at (202) 208-4294. Persons who use a telecommunication device for the deaf (TDD) may call the Federal Information Relay Service (FIRS) at 1-(800) 877-8339, to leave a message for Ms. Sandoval.

SUPPLEMENTARY INFORMATION: OMB regulations at 5 CFR 1320, which implement provisions of the Paperwork Reduction Act, 44 U.S.C. 3501-3521, require that interested members of the public and affected agencies be given an opportunity to comment on proposed information collection and recordkeeping activities (see 5 CFR 1320.8(d)). This notice identifies an information collection that the BLM will submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) The accuracy of the agency's burden estimates; (3) Ways to enhance the quality, utility and clarity of the information collection; and (4) Ways to minimize the information collection burden on respondents, such as use of automated means of collection of the information. A summary of the public comments will accompany our submission of the information collection requests to OMB.

The following information is provided for the information collection:

Title: Federal Advisory Committee Background Information Nomination Form.

Forms:

• Resource Advisory Council Background Information Nomination Form.

OMB Control Number: 1004-XXXX.

Abstract: The BLM seeks to collect information to determine education, training, and experience related to possible service on advisory committees established under the authority of Section 309 of the Federal Land Policy and Management Act (43 U.S.C. 1739) and the Federal Advisory Committee Act, 5 U.S.C. App. 2. This information is necessary to ensure that each advisory committee is structured to provide fair membership balance, both geographic and interest-specific, in terms of the functions to be performed and points of view to be represented, as prescribed by its charter.

Frequency of Collection: On occasion

Estimated Number and Description of Respondents: 200 applicants annually for possible service on advisory committees.

Estimated Reporting and Recordkeeping “Hour” Burden: 800 hours annually.

Estimated Reporting and Recordkeeping “Non-Hour Cost” Burden: None.

Before including your address, telephone number, email address, or other personal identifying information in your comments, be advised that your entire comment—including your personal identifying information—may be made publicly available at any time. While you can ask in your comment to withhold from public review your personal identifying information, we cannot guarantee that we will be able to do so.

Jean Sonneman,
Information Collection Clearance Officer, Bureau of Land Management.

[FR Doc. 2011-33233 Filed 12-27-11; 8:45 am]

BILLING CODE 4310-84-P